DEPARTMENT OF EDUCATION

Extension of the Application Deadline Date; Applications for New Awards; Migrant Education Program Consortium Incentive Grant Program

AGENCY: Office of Elementary and Secondary Education, Department of Education.

ACTION: Notice.

SUMMARY: On February 25, 2020, the Department of Education (Department or we) published in the Federal Register (85 FR 10660) a notice inviting applications (NIA) for the fiscal year (FY) 2020 Migrant Education Program Consortium Incentive Grant (CIG) Program competition, Catalog of Federal Domestic Assistance (CFDA) number 84.144F. The NIA established a deadline date of April 27, 2020, for the transmittal of applications. This notice extends the deadline date for transmittal of applications until May 27, 2020 at 11:59 p.m. and extends the date of intergovernmental review until July 27, 2020.

DATES:

Deadline for Transmittal of Applications: May 27, 2020.

Deadline for Intergovernmental Review: July 27, 2020.

FOR FURTHER INFORMATION CONTACT: Patricia Meyertholen, U.S. Department of Education, 400 Maryland Avenue SW, Room 3E315, Washington, DC 20202-6135. Telephone: (202) 260-1394. Email: Patricia.Meyertholen@ed.gov.

If you use a telecommunications device for the deaf (TDD) or a text telephone (TTY), call the Federal Relay Service (FRS), toll free, at 1-800-877-8339.

SUPPLEMENTARY INFORMATION: On February 25, 2020, we published the NIA for the FY 2020 Migrant Education Program CIG Program competition in the Federal Register (85 FR 10660).¹ Due to the national emergency declared under the Robert T. Stafford Disaster Relief and Emergency Assistance Act, resulting in school and organization closures, the Department recognizes that additional time is necessary for State educational agency applicants to coordinate and complete their applications. We are extending the deadline date for transmittal of applications in order to allow consortium applicants more time to prepare and submit their applications.

¹ https://www.federalregister.gov/d/2020-03763.

Applicants that have already timely submitted applications under the FY 2020 Migrant Education Program CIG competition may resubmit applications, but are not required to do so. If a new application is not submitted, the Department will use the application that was submitted by the original deadline. If a new application is submitted, the Department will consider the application that is last submitted and timely received.

Note: All information in the NIA for this competition remains the same, except for the deadline for the transmittal of applications and the deadline for intergovernmental review.

Program Authority: 20 U.S.C. 6398(d).

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Frank T. Brogan,
Assistant Secretary for Elementary and Secondary Education.

[FR Doc. 2020-08541 Filed 4-21-20; 8:45 am]

BILLING CODE 4000-01-P